DEPARTMENT OF HOMELAND SECURITY

Coast Guard

[Docket No. USCG-2019-0878]

Notice of Public Meeting on Consistent Implementation of Regulation 14.1.3 of MARPOL Annex VI (Global 0.50% Sulfur Limit)

AGENCY: Coast Guard, DHS.

ACTION: Notice of meeting.

SUMMARY: The United States Coast Guard will conduct a public meeting in Washington, DC on consistent implementation of regulation 14.1.3 of MARPOL Annex IV (Global 0.50% Sulfur Limit). The purpose of this meeting will be to review the MARPOL Annex VI provisions for implementing the Global 0.50% Sulfur Limit and the associated guidance developed through the International Maritime Organization, as well as discuss related issues and Coast Guard enforcement plans.

DATES: This public meeting will be held on Thursday, December 5, beginning at 9:30 a.m. and ending at 3:00 p.m., Eastern Time. This meeting is open to the public.

ADDRESSES: The public meeting will be held in Room 3, located on the first floor near the main entrance of the United States Department of Transportation building in Washington, DC. The United States Department of Transportation building is located at 1200 New Jersey Ave. SE, in Washington, DC, across the street from the Navy Yard-Ballpark Metro Station. Due to security requirements, each visitor must present a valid government-issued photo identification (for example, a driver's license) in order to gain entrance to the building. Those desiring to attend the public meeting should contact the Coast Guard ahead of the meeting (see FOR FURTHER INFORMATION CONTACT) to facilitate the security process related to building access, or to request reasonable accommodation.

FOR FURTHER INFORMATION CONTACT: For additional information about this public meeting you may contact Mr. Wayne Lundy by telephone at (202) 372-1379 or by email at Wayne.M.Lundy@uscg.mil.

SUPPLEMENTARY INFORMATION: Annex VI to the International Convention for the Prevention of Pollution from Ships (MARPOL Annex VI) addresses air pollution from ships. Regulation 14 addresses particulate matter (PM) and sulfur oxide (SOX) emissions through fuel sulfur content limits. Beginning on January 1, 2015, fuel used in ships operating in designated Emission Control Areas (ECAs), including the North American and U.S. Caribbean Sea ECAs, may not exceed 1,000 ppm. Outside of designated ECAs, the sulfur content of marine fuel currently may not exceed 35,000 ppm; this limit will be reduced to 5,000 ppm beginning on January 1, 2020.

As required by Regulation 14.8 of Annex VI, the 2020 global sulfur limit was reviewed and the limit was confirmed by the Marine Environment Protection Committee at its 70th session in November, 2016. At the 71st session, the Marine Environment Protection Committee agreed on a new work output to consider measures to promote consistent implementation of the global sulfur limit to address industry concerns and promote a level playing field with regard to compliance and enforcement of the new standards.

The Coast Guard will conduct a meeting on Thursday, December 5 at the United States Department of Transportation building in Washington, DC, provide an overview of the MARPOL Annex VI provisions for implementing the Global 0.50% Sulfur Limit and the associated guidance developed through the International Maritime Organization. Related issues will also be discussed, including enforcement in the United States, changes to Port State Control procedures, fuel oil non-availability notices, Ship Implementation Plans, in-use and onboard fuel oil sampling, and Exhaust Gas Cleaning Systems.

This meeting is open to the public. Please note that the public meeting has a limited number of seats. Also, the meeting may close early if all business is finished. Those interested in attending should contact Mr. Wayne Lundy by telephone at (202) 372-1379 or by email at Wayne.M.Lundy@uscg.mil.

Information on Services for Individuals With Disabilities

For information on facilities or services for individuals with disabilities or to request special assistance at the meeting, contact Mr. Wayne Lundy at (202) 372-1379 or by email at Wayne.M.Lundy@uscg.mil as soon as possible.

Dated: November 14, 2019.
J.G. Lantz,
Director of Commercial Regulations and Standards, U.S. Coast Guard.

[FR Doc. 2019-25144 Filed 11-19-19; 8:45 am]

BILLING CODE P